DEPARTMENT OF COMMERCE

International Trade Administration

[C-580-837]

Certain Cut-to-Length Carbon-Quality Steel Plate From the Republic of Korea: Final Results of Countervailing Duty Administrative Review; Calendar Year 2017

AGENCY: Enforcement and Compliance, International Trade Administration, Department of Commerce.

SUMMARY: The Department of Commerce (Commerce) determines that Hyundai Steel Company (Hyundai Steel) and Dongkuk Steel Mill Co., Ltd. (DSM), producers/exporters of certain cut-to-length carbon-quality steel plate (CTL plate) from the Republic of Korea (Korea), received countervailable subsidies that are de minimis during the period of review (POR), January 1, 2017 through December 31, 2017.

DATES: Applicable August 19, 2019.

FOR FURTHER INFORMATION CONTACT: John Conniff (for Hyundai Steel) or Jolanta Lawska (for DSM), AD/CVD Operations, Office III, Enforcement and Compliance, International Trade Administration, U.S. Department of Commerce, 1401 Constitution Avenue NW, Washington, DC 20230; telephone: (202) 482-1009 or (202) 482-8362, respectively.

SUPPLEMENTARY INFORMATION:

Background

On April 15, 2019, Commerce published the preliminary results of this administrative review.¹ We invited interested parties to comment on the Preliminary Results. On May 15, 2019, we received a timely filed case brief from Nucor Corporation (the petitioner) and, on May 20, 2019, Hyundai Steel submitted a timely filed rebuttal brief. Commerce conducted this review in accordance with section 751 of the Tariff Act of 1930, as amended (the Act).

¹ See Certain Cut-to-Length Carbon-Quality Steel Plate from the Republic of Korea: Preliminary Results of Countervailing Duty Administrative Review; and Rescission of Review, in Part; Calendar Year 2017, 84 FR 15182 (April 15, 2019) (Preliminary Results), and accompanying Preliminary Decision Memorandum.

Scope of the Order

The merchandise covered by the order is certain hot-rolled carbon-quality steel plate. For a complete description of the scope of the order, see the Issues and Decision Memorandum.²

² See Memorandum, “Certain Issues and Decision Memorandum for the Final Results of Countervailing Duty Administrative Review: Cut-to-Length Carbon-Quality Steel Plate from the Republic of Korea; 2017,” dated concurrently with, and hereby adopted by, this notice (Issues and Decision Memorandum).

Analysis of Comments Received

All issues raised in interested parties' case briefs are addressed in the Issues and Decision Memorandum. The issues are identified in the appendix to this notice. The Issues and Decision Memorandum is a public document and is on file electronically via Enforcement and Compliance's Antidumping and Countervailing Duty Centralized Electronic Service System (ACCESS). ACCESS is available to registered users at https://access.trade.gov and is available to all parties in the Central Records Unit, Room B8024 of the main Commerce building. In addition, a complete version of the Issues and Decision Memorandum can be accessed directly on the internet at http://enforcement.trade.gov/frn/index.html. The signed and electronic versions of the Issues and Decision Memorandum are identical in content.

Changes Since the Preliminary Results

Based on the comments received from the petitioner and Hyundai Steel, we made no changes to the net subsidy rates calculated for the mandatory respondents. For a discussion of these issues, see the Issues and Decision Memorandum.

Final Results of Administrative Review

We determine that the following total estimated net countervailable subsidy rates exist for the period January 1, 2017 through December 31, 2017:

Company | Subsidy rate ad valorem
Dongkuk Steel Mill Co., Ltd | 0.25 percent (de minimis).
Hyundai Steel Company | 0.44 percent (de minimis).

Disclosure

Commerce intends to disclose the calculations performed for these final results of review within five days of the date of publication of this notice in the Federal Register, in accordance with 19 CFR 351.224(b).

Assessment Rates

Pursuant to 19 CFR 351.212(b)(2), Commerce intends to issue appropriate instructions to U.S. Customs and Border Protection (CBP) 15 days after the date of publication of the final results of this review. We will instruct CBP to liquidate shipments of subject merchandise produced by DSM and Hyundai Steel entered, or withdrawn form warehouse, for consumption on or after January 1, 2017 through December 31, 2017, without regard to countervailing duties because a de minimis subsidy rate was calculated for each company.

Cash Deposit Instructions

The following cash deposit requirements will be effective upon publication of the notice of final results of this administrative review for all shipments of the subject merchandise entered, or withdrawn from warehouse, for consumption on or after the date of publication, as provided by section 751(a)(2)(C) of the Act: (1) The cash deposit rate for the companies listed in these final results will be zero percent; and (2) for all non-reviewed firms, we will instruct CBP to continue to collect cash deposits at the most recent company-specific or all-others rate applicable to the company, as appropriate. These cash deposit requirements, when imposed, shall remain in effect until further notice.

Administrative Protective Order (APO)

This notice also serves as a reminder to parties subject to APO of their responsibility concerning the disposition of proprietary information disclosed under APO in accordance with 19 CFR 351.305(a)(3), which continues to govern business proprietary information in this segment of the proceeding. Timely written notification of the return or destruction of APO materials, or conversion to judicial protective order is hereby requested. Failure to comply with the regulations and the terms of an APO is a sanctionable violation.

Notification to Interested Parties

These final results are issued and published in accordance with sections 751(a)(1) and 777(i)(1) of the Act and 19 CFR 351.221(b)(5).

Dated: August 12, 2019.
Jeffrey I. Kessler,
Assistant Secretary for Enforcement and Compliance.

Appendix

List of Topics Discussed in the Issues and Decision Memorandum

I. Summary

II. Background

III. Scope of the Order

IV. Period of Review

V. Subsidies Valuation Information

VI. Analysis of Programs

VII. Analysis of Comments

Comment 1: Whether Commerce Should Adjust Hyundai Steel Company's (Hyundai Steel) Tax Benefit Calculations to Account for Special Rural Development Taxes (SRDTs)

Comment 2: Whether Hyundai Green Power is Cross-Owned with Hyundai Steel

Comment 3: Whether Hyundai Green Power Supplied Inputs to Hyundai Steel that Were Primarily Dedicated to the Production of the Downstream Product

VIII. Recommendation

[FR Doc. 2019-17769 Filed 8-16-19; 8:45 am]

BILLING CODE 3510-DS-P